ENVIRONMENTAL PROTECTION AGENCY

40 CFR Part 52

[EPA-R03-OAR-2007-0381; FRL-8510-3]

Approval and Promulgation of Air Quality Implementation Plans; Virginia; Clean Air Interstate Rule Budget Trading Programs

AGENCY: Environmental Protection Agency (EPA).

ACTION: Final rule.

SUMMARY: EPA is approving a State Implementation Plan (SIP) revision submitted by the Commonwealth of Virginia. This revision establishes budget trading programs for nitrogen oxides (NOX) annual, NOX ozone season, and sulfur dioxides (SO2) annual emissions to address the requirements of EPA's Clean Air Interstate Rule (CAIR). Virginia will meet its CAIR requirements by participating in the EPA-administered regional cap-and-trade program for NOX annual, NOX ozone season, and SO2 annual emissions. EPA is determining that the SIP revision fully implements the CAIR requirements for Virginia. Therefore, as a consequence of the SIP approval, EPA will also withdraw the CAIR Federal Implementation Plan (FIP) that addresses NOX annual, NOX ozone season, and SO2 annual emissions in Virginia.

EFFECTIVE DATE: The final rule is effective on December 28, 2007.

ADDRESSES: EPA has established a docket for this action under Docket ID Number EPA-R03-OAR-2007-0381. All documents in the electronic docket are listed in the www.regulations.gov index. Although listed in the index, some information is not publicly available, i.e., confidential business information (CBI) or other information whose disclosure is restricted by statute. Certain other material, such as copyrighted material, is not placed on the Internet and will be publicly available only in hard copy form. Publicly available docket materials are available either electronically at www.regulations.gov or in hard copy during normal business hours at the Air Protection Division, U.S. Environmental Protection Agency, Region III, 1650 Arch Street, Philadelphia, Pennsylvania 19103. Copies of the State submittal are available at the Virginia Department of Environmental Quality, 629 East Main Street, Richmond, Virginia, 23219.

FOR FURTHER INFORMATION CONTACT: Marilyn Powers, (215) 814-2308 or by e-mail at powers.marilyn@epa.gov.

SUPPLEMENTARY INFORMATION:

I. Background

On March 30, 2007, and supplemented on April 30, 2007 and June 11, 2007, the Virginia Department of Environmental Quality (VADEQ) submitted a CAIR SIP revision to meet the requirements of CAIR, which was promulgated on May 12, 2005 (70 FR 25162), and subsequently revised on April 28, 2006, and December 13, 2006. The SIP revision is comprised of new regulations under 9 VAC 5 Chapter 140 of the Virginia Code as follows: Part II—NOX Annual Trading Program; Part III—NOX Ozone Season Trading Program; and Part IV—SO2 Annual Trading Program. The regulations address all the requirements of the part 96 model rules set forth in the May 12, 2005 CAIR rulemaking.

On September 25, 2007 (72 FR 54385), EPA published a notice of proposed rulemaking (NPR) to approve Virginia's CAIR SIP revision. A detailed discussion of the CAIR requirements, Virginia's CAIR submittal, and EPA's rationale for approval of Virginia's CAIR SIP revision may be found in the NPR and will not be repeated here. On October 24, 2007, EPA received adverse comments from the State of Connecticut Department of Environmental Protection.

II. Public Comments and EPA Responses

Comment: On October 24, 2007, the Connecticut Department of Environmental Protection (CTDEP) submitted adverse comments on EPA's proposed approval of Virginia's CAIR SIP revision. CTDEP encourages EPA to approve state programs adopted to meet the emission reduction requirements of CAIR. However, it argues that before approving state CAIR plans, EPA should evaluate individually and in the aggregate each state's clean air programs. They argue such evaluation is necessary to ensure that each state's emissions do not significantly contribute to downwind nonattainment. CTDEP asserts its belief that the CAIR program does not ensure that the CAA section 110(a)(2)(D)(i) requirements to prohibit transported emissions that significantly contribute to nonattainment in Connecticut and other states will be met. CTDEP expresses concern that EPA is determining through this and other similar rulemakings that CAIR programs are sufficient to meet States' section 110(a)(2)(D)(i) obligations. CTDEP asserts, based on EPA and State modeling for CAIR, that the levels of transported pollution remaining after CAIR implementation are large enough that, even with local controls, it may be difficult for Connecticut to attain the 8-hour ozone NAAQS by 2010. Finally, CTDEP questions EPA's determination that highly cost effective controls are adequate to address States' section 110(a)(2)(D)(i) obligations as compared to “reasonable cost” controls that could be achieved to effect more stringent NOX reductions.

Response: EPA does not agree that it is appropriate or necessary for EPA to conduct additional analysis before approving Virginia's CAIR SIP revision. In the CAIR rulemaking promulgated on May 12, 2005 (70 FR 25162), EPA established model rules for multi-State cap and trade programs for annual NOX, ozone season NOX, and annual SO2 that States may choose to adopt to meet the required emissions reductions in a flexible and cost-effective manner. EPA requires States that wish to participate in the EPA-administered cap and trade program to use the model rule (with only limited flexibility to modify specific provisions) to ensure that all participating sources, regardless of which State in the CAIR region they are located, are subject to the same trading and allowance holding requirements. Virginia has chosen to participate in the cap and trade program administered by EPA and has chosen to adopt the model rules with modifications allowed by flexibilities in the model rule. EPA has evaluated Virginia's SIP revision and determined that Virginia is meeting its CAIR requirements. CTDEP does not challenge this determination. Thus, CTDEP's comments do not specifically pertain to any aspect of EPA's proposed action to approve the Virginia CAIR SIP revision. Rather, the comments appear to be directed broadly at EPA's decisions with regard to States' section 110(a)(2)(D)(i) obligations. These decisions were made by EPA in the context of the CAIR rulemaking, not in the proposed action to approve Virginia's CAIR SIP revision. Therefore, CTDEP's comments are not relevant to the proposed action. CTDEP had ample opportunity to submit comments both during the comment period for the proposed CAIR rulemaking of January 30, 2004 (70 FR 49708) and during the comment period for the proposed CAIR FIP of August 24, 2005 (70 FR 49708). EPA's proposal to approve Virginia's CAIR SIP did not reopen either the CAIR or CAIR FIP rulemakings. Consequently, CTDEP's comments are not relevant to this rulemaking, or timely with respect to the CAIR and CAIR FIP rulemakings. Thus, EPA does not believe it is necessary to conduct additional analysis on whether Virginia or any other state satisfies the requirements of 110(a)(2)(D)(i) before approving Virginia's CAIR SIP submission.

III. Information Pertaining to SIP Submittals From the Commonwealth of Virginia

In 1995, Virginia adopted legislation that provides, subject to certain conditions, for an environmental assessment (audit) “privilege” for voluntary compliance evaluations performed by a regulated entity. The legislation further addresses the relative burden of proof for parties either asserting the privilege or seeking disclosure of documents for which the privilege is claimed. Virginia's legislation also provides, subject to certain conditions, for a penalty waiver for violations of environmental laws when a regulated entity discovers such violations pursuant to a voluntary compliance evaluation and voluntarily discloses such violations to the Commonwealth and takes prompt and appropriate measures to remedy the violations. Virginia's Voluntary Environmental Assessment Privilege Law, Va. Code Sec. 10.1-1198, provides a privilege that protects from disclosure documents and information about the content of those documents that are the product of a voluntary environmental assessment. The Privilege Law does not extend to documents or information (1) that are generated or developed before the commencement of a voluntary environmental assessment; (2) that are prepared independently of the assessment process; (3) that demonstrate a clear, imminent and substantial danger to the public health or environment; or (4) that are required by law.

On January 12, 1998, the Commonwealth of Virginia Office of the Attorney General provided a legal opinion that states that the Privilege law, Va. Code Sec. 10.1-1198, precludes granting a privilege to documents and information “required by law,” including documents and information “required by Federal law to maintain program delegation, authorization or approval,” since Virginia must “enforce Federally authorized environmental programs in a manner that is no less stringent than their Federal counterparts * * *.” The opinion concludes that “[r]egarding § 10.1-1198, therefore, documents or other information needed for civil or criminal enforcement under one of these programs could not be privileged because such documents and information are essential to pursuing enforcement in a manner required by Federal law to maintain program delegation, authorization or approval.”

Virginia's Immunity law, Va. Code Sec. 10.1-1199, provides that “[t]o the extent consistent with requirements imposed by Federal law,” any person making a voluntary disclosure of information to a state agency regarding a violation of an environmental statute, regulation, permit, or administrative order is granted immunity from administrative or civil penalty. The Attorney General's January 12, 1998 opinion states that the quoted language renders this statute inapplicable to enforcement of any Federally authorized programs, since “no immunity could be afforded from administrative, civil, or criminal penalties because granting such immunity would not be consistent with Federal law, which is one of the criteria for immunity.”

Therefore, EPA has determined that Virginia's Privilege and Immunity statutes will not preclude the Commonwealth from enforcing its program consistent with the Federal requirements. In any event, because EPA has also determined that a state audit privilege and immunity law can affect only state enforcement and cannot have any impact on Federal enforcement authorities, EPA may at any time invoke its authority under the CAA, including, for example, sections 113, 167, 205, 211 or 213, to enforce the requirements or prohibitions of the state plan, independently of any state enforcement effort. In addition, citizen enforcement under section 304 of the CAA is likewise unaffected by this, or any, state audit privilege or immunity law.

IV. Final Action

EPA is approving Virginia's CAIR SIP revision submitted on March 30, 2007, and supplemented on April 30, 2007 and June 11, 2007. Under the SIP revision, Virginia will participate in the EPA-administered cap-and-trade programs for NOX annual, NOX ozone season, and SO2 annual emissions. The SIP revision meets the applicable requirements in 40 CFR 51.123(o) and (aa), with regard to NOX annual and NOX ozone season emissions, and 40 CFR 51.124(o), with regard to SO2 emissions. As a consequence of the SIP approval, the Administrator of EPA will issue, without providing an opportunity for a public hearing or an additional opportunity for written public comment, a final rule to withdraw the CAIR FIPs for SO2, NOX annual, and NOX ozone season emissions for Virginia.

V. Effective Date

EPA finds that there is good cause for this approval to become effective on the date of publication because a delayed effective date is unnecessary due to the nature of the approval, which allows the Commonwealth to make allocations under its CAIR rules. The expedited effective date for this action is authorized under both 5 U.S.C. 553(d)(1), which provides that rule actions may become effective less than 30 days after publication if the rule “grants or recognizes an exemption or relieves a restriction” and section 5 U.S.C. 553(d)(3), which allows an effective date less than 30 days after publication “as otherwise provided by the agency for good cause found and published with the rule.”

CAIR SIP approvals relieve states and CAIR sources within states from being subject to allowance allocation provisions in the CAIR FIPs that otherwise would apply to them, allowing States to make their own allowance allocations based on their SIP-approved State rule. The relief from these obligations is sufficient reason to allow an expedited effective date of this rule under 5 U.S.C. 553(d)(1).

VI. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 “Protection of Children from Environmental Health Risks and Safety Risks” (62 FR 19885, April 23, 1997), because it approves a state rule implementing a Federal standard. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by February 26, 2008. Filing a petition for reconsideration by the Administrator of this final rule does not affect the finality of this rule for the purposes of judicial review nor does it extend the time within which a petition for judicial review may be filed, and shall not postpone the effectiveness of such rule or action.

This action to approve Virginia's CAIR SIP revision may not be challenged later in proceedings to enforce its requirements. (See section 307(b)(2).)

List of Subjects in 40 CFR Part 52

Environmental protection, Air pollution control, Incorporation by reference, Nitrogen dioxide, Ozone, Particulate matter, Reporting and recordkeeping requirements, Sulfur oxides.

Dated: December 13, 2007.
Donald S. Welsh,
Regional Administrator, Region III.

40 CFR part 52 is amended as follows:

PART 52—[AMENDED]

1. The authority citation for 40 CFR part 52 continues to read as follows:

Authority: 42 U.S.C. 7401 et seq.

Subpart VV—Virginia

2. In § 52.2420, the table in paragraph (c) is amended by adding the entries for Chapter 140, Sections 1010 through 3880 to read as follows:

§ 52.2420 Identification of plan.

* * * * *

(c) * * *

EPA-Approved Virginia Regulations and Statutes
State citation (9 VAC 5) | Title/subject | State effective date | EPA approval date | Explanation [former SIP citation]
* * * * * * *
Chapter 140 Regulation for Emissions Trading
* * * * * * *
Part II NOX Annual Trading Program
Article 1 CAIR NOX Annual Trading Program General Provisions
5-140-1010 | Purpose | 4/18/07 | 12/28/07 | [Insert page number where the document begins]
5-140-1020 | Definitions | 4/18/07 | 12/28/07 [Insert page number where the document begins] | Except for definition of “Nonattainment condition”
5-140-1030 | Measurements, abbreviations, and acronyms | 4/18/07 | 12/28/07 [Insert page number where the document begins]
5-140-1040 | Applicability | 4/18/07 | 12/28/07 [Insert page number where the document begins]
5-140-1050 | Retired Unit Exemption | 4/18/07 | 12/28/07 [Insert page number where the document begins]
5-140-1060 | Standard requirements | 4/18/07 | 12/28/07 [Insert page number where the document begins]
5-140-1070 | Computation of time | 4/18/07 | 12/28/07 [Insert page number where the document begins]
5-140-1080 | Appeal procedures | 4/18/07 | 12/28/07 [Insert page number where the document begins]
Article 2 CAIR-designated Representative for CAIR NOX Sources
5-140-1100 | Authorization and responsibilities of CAIR-designated representative | 4/18/07 | 12/28/07 [Insert page number where the document begins]
5-140-1110 | Alternate CAIR-designated representative | 4/18/07 | 12/28/07 [Insert page number where the document begins]
5-140-1120 | Changing CAIR-designated representative and alternate CAIR-designated representative; changes in owners and operators | 4/18/07 | 12/28/07 [Insert page number where the document begins]
5-140-1130 | Certificate of representation | 4/18/07 | 12/28/07 [Insert page number where the document begins]
5-140-1140 | Objections concerning CAIR-designated representative | 4/18/07 | 12/28/07 [Insert page number where the document begins]
5-140-1150 | Delegation by CAIR-designated representative and alternate CAIR-designated representative | 4/18/07 | 12/28/07 [Insert page number where the document begins]
Article 3 Permits
5-140-1200 | General CAIR NOX Annual Trading Program permit requirements | 4/18/07 | 12/28/07 [Insert page number where the document begins]
5-140-1210 | Submission of CAIR permit applications | 4/18/07 | 12/28/07 [Insert page number where the document begins]
5-140-1220 | Information requirements for CAIR permit applications | 4/18/07 | 12/28/07 [Insert page number where the document begins]
5-140-1230 | CAIR permit contents and term | 4/18/07 | 12/28/07 [Insert page number where the document begins]
5-140-1240 | CAIR permit revisions | 4/18/07 | 12/28/07 [Insert page number where the document begins]
Article 5 CAIR NOX Allowance Allocations
5-140-1400 | CAIR NOX Annual trading budgets | 4/18/07 | 12/28/07 [Insert page number where the document begins]
5-140-1410 | Timing requirements for CAIR NOX allowance allocations | 4/18/07 | 12/28/07 [Insert page number where the document begins]
5-140-1420 | CAIR NOX allowance allocations | 4/18/07 | 12/28/07 [Insert page number where the document begins]
5-140-1430 | Compliance supplement pool | 4/18/07 | 12/28/07 [Insert page number where the document begins]
Article 6 CAIR NOX Allowance Tracking System
5-140-1510 | Establishment of accounts | 4/18/07 | 12/28/07 [Insert page number where the document begins]
5-140-1520 | Responsibilities of CAIR-authorized account representative | 4/18/07 | 12/28/07 [Insert page number where the document begins]
5-140-1530 | Recordation of CAIR NOX allowance allocations | 4/18/07 | 12/28/07 [Insert page number where the document begins]
5-140-1540 | Compliance with CAIR NOX emissions limitation | 4/18/07 | 12/28/07 [Insert page number where the document begins]
5-140-1550 | Banking | 4/18/07 | 12/28/07 [Insert page number where the document begins]
5-140-1560 | Account error | 4/18/07 | 12/28/07 [Insert page number where the document begins]
5-140-1570 | Closing of general accounts | 4/18/07 | 12/28/07 [Insert page number where the document begins]
Article 7 CAIR, NOX Allowance Transfers
5-140-1600 | Submission of CAIR NOX allowance transfers | 4/18/07 | 12/28/07 [Insert page number where the document begins]
5-140-1610 | EPA recordation | 4/18/07 | 12/28/07 [Insert page number where the document begins]
5-140-1620 | Notification | 4/18/07 | 12/28/07 [Insert page number where the document begins]
Article 8 Monitoring and Reporting
5-140-1700 | General requirements | 4/18/07 | 12/28/07 [Insert page number where the document begins]
5-140-1710 | Initial certification and recertification procedures | 4/18/07 | 12/28/07 [Insert page number where the document begins]
5-140-1720 | Out of control periods | 4/18/07 | 12/28/07 [Insert page number where the document begins]
5-140-1730 | Notifications | 4/18/07 | 12/28/07 [Insert page number where the document begins]
5-140-1740 | Recordkeeping and reporting | 4/18/07 | 12/28/07 [Insert page number where the document begins]
5-140-1750 | Petitions | 4/18/07 | 12/28/07 [Insert page number where the document begins]
Article 9 CAIR NOX Opt-in Units
5-140-1800 | Applicability | 4/18/07 | 12/28/07 [Insert page number where the document begins]
5-140-1810 | General | 4/18/07 | 12/28/07 [Insert page number where the document begins]
5-140-1820 | CAIR-designated representative | 4/18/07 | 12/28/07 [Insert page number where the document begins]
5-140-1830 | Applying for CAIR opt-in permit | 4/18/07 | 12/28/07 [Insert page number where the document begins]
5-140-1840 | Opt-in process | 4/18/07 | 12/28/07 [Insert page number where the document begins]
5-140-1850 | CAIR opt-in permit content | 4/18/07 | 12/28/07 [Insert page number where the document begins]
5-140-1860 | Withdrawal from CAIR NOX Annual Trading Program | 4/18/07 | 12/28/07 [Insert page number where the document begins]
5-140-1870 | Change in regulatory status | 4/18/07 | 12/28/07 [Insert page number where the document begins]
5-140-1880 | CAIR NOX allowance allocations to CAIR NOX opt-in units | 4/18/07 | 12/28/07 [Insert page number where the document begins]
Part III NOX Ozone Season Trading Program
Article 1 CAIR NOX Ozone Season Trading Program General Provisions
5-140-2010 | Purpose | 4/18/07 | 12/28/07 [Insert page number where the document begins]
5-140-2020 | Definitions | 4/18/07 | 12/28/07 [Insert page number where the document begins] | Except for definition of “Nonattainment condition”
5-140-2030 | Measurements, abbreviations, and acronyms | 4/18/07 | 12/28/07 [Insert page number where the document begins]
5-140-2040 | Applicability | 4/18/07 | 12/28/07 [Insert page number where the document begins]
5-140-2050 | Retired unit exemption | 4/18/07 | 12/28/07 [Insert page number where the document begins]
5-140-2060 | Standard requirements | 4/18/07 | 12/28/07 [Insert page number where the document begins]
5-140-2070 | Computation of time | 4/18/07 | 12/28/07 [Insert page number where the document begins]
5-140-2080 | Appeal procedures | 4/18/07 | 12/28/07 [Insert page number where the document begins]
Article 2 CAIR- Designated Representative for CAIR NOX Ozone Season Sources
5-140-2100 | Authorization and responsibilities of CAIR-designated representative | 4/18/07 | 12/28/07 [Insert page number where the document begins]
5-140-2110 | Alternate CAIR-designated representative | 4/18/07 | 12/28/07 [Insert page number where the document begins]
5-140-2120 | Changing CAIR-designated representative and alternate CAIR-designated representative; changes in owners and operators | 4/18/07 | 12/28/07 [Insert page number where the document begins]
5-140-2130 | Certificate of representation | 4/18/07 | 12/28/07 [Insert page number where the document begins]
5-140-2140 | Objections concerning CAIR-designated representative | 4/18/07 | 12/28/07 [Insert page number where the document begins]
5-140-2150 | Delegation by CAIR-designated representative and alternate CAIR-designated representative | 4/18/07 | 12/28/07 [Insert page number where the document begins]
Article 3 Permits
5-140-2200 | General CAIR NOX Ozone Season Trading Program permit requirements | 4/18/07 | 12/28/07 [Insert page number where the document begins]
5-140-2210 | Submission of CAIR permit applications | 4/18/07 | 12/28/07 [Insert page number where the document begins]
5-140-2220 | Information requirements for CAIR permit applications | 4/18/07 | 12/28/07 [Insert page number where the document begins]
5-140-2230 | CAIR permit contents and term | 4/18/07 | 12/28/07 [Insert page number where the document begins]
5-140-2240 | CAIR permit revisions | 4/18/07 | 12/28/07 [Insert page number where the document begins]
Article 5 CAIR NOX Ozone Season Allowance Allocations
5-140-2400 | CAIR NOX Ozone Season trading budgets | 4/18/07 | 12/28/07 [Insert page number where the document begins]
5-140-2405 | State trading budgets for nonelectric generating units | 4/18/07 | 12/28/07 [Insert page number where the document begins]
5-140-2410 | Timing requirements for CAIR NOX Ozone Season allowance allocations | 4/18/07 | 12/28/07 [Insert page number where the document begins]
5-140-2420 | CAIR NOX Ozone Season allowance allocations | 4/18/07 | 12/28/07 [Insert page number where the document begins]
5-140-2430 | CAIR NOX Ozone Season allowance allocations for individual existing nonelectric generating units | 4/18/07 | 12/28/07 [Insert page number where the document begins]
Article 6 CAIR NOX Ozone Season Allowance Tracking System
5-140-2510 | Establishment of accounts | 4/18/07 | 12/28/07 [Insert page number where the document begins]
5-140-2520 | Responsibilities of CAIR-authorized account representative | 4/18/07 | 12/28/07 [Insert page number where the document begins]
5-140-2530 | Recordation of CAIR NOX Ozone Season allowance allocations | 4/18/07 | 12/28/07 [Insert page number where the document begins]
5-140-2540 | Compliance with CAIR NOX emissions limitation | 4/18/07 | 12/28/07 [Insert page number where the document begins]
5-140-2550 | Banking | 4/18/07 | 12/28/07 [Insert page number where the document begins]
5-140-2560 | Account error | 4/18/07 | 12/28/07 [Insert page number where the document begins]
5-140-2570 | Closing of general accounts | 4/18/07 | 12/28/07 [Insert page number where the document begins]
Article 7 CAIR NOX Ozone Season Allowance Transfers
5-140-2600 | Submission of CAIR NOX Ozone Season allowance transfers | 4/18/07 | 12/28/07 [Insert page number where the document begins]
5-140-2610 | EPA recordation | 4/18/07 | 12/28/07 [Insert page number where the document begins]
5-140-2620 | Notification | 4/18/07 | 12/28/07 [Insert page number where the document begins]
Article 8 Monitoring and Reporting
5-140-2700 | General requirements | 4/18/07 | 12/28/07 [Insert page number where the document begins]
5-140-2710 | Initial certification and recertification procedures | 4/18/07 | 12/28/07 [Insert page number where the document begins]
5-140-2720 | Out of control periods | 4/18/07 | 12/28/07 [Insert page number where the document begins]
5-140-2730 | Notifications | 4/18/07 | 12/28/07 [Insert page number where the document begins]
5-140-2740 | Recordkeeping and reporting | 4/18/07 | 12/28/07 [Insert page number where the document begins]
5-140-2750 | Petitions | 4/18/07 | 12/28/07 [Insert page number where the document begins]
Article 9 CAIR NOX Ozone Season Opt-in Units
5-140-2800 | Applicability | 4/18/07 | 12/28/07 [Insert page number where the document begins]
5-140-2810 | General | 4/18/07 | 12/28/07 [Insert page number where the document begins]
5-140-2820 | CAIR-designated representative | 4/18/07 | 12/28/07 [Insert page number where the document begins]
5-140-2830 | Applying for CAIR opt-in permit | 4/18/07 | 12/28/07 [Insert page number where the document begins]
5-140-2840 | Opt-in process | 4/18/07 | 12/28/07 [Insert page number where the document begins]
5-140-2850 | CAIR opt-in permit contents | 4/18/07 | 12/28/07 [Insert page number where the document begins]
5-140-2860 | Withdrawal from CAIR NOX Ozone Season Trading Program | 4/18/07 | 12/28/07 [Insert page number where the document begins]
5-140-2870 | Change in regulatory status | 4/18/07 | 12/28/07 [Insert page number where the document begins]
5-140-2880 | CAIR NOX Ozone Season allowance allocations to CAIR NOX Ozone Season opt-in units | 4/18/07 | 12/28/07 [Insert page number where the document begins]
Part IV SO2 Annual Trading Program
Article 1 CAIR SO2 Trading Program General Provisions
5-140-3010 | Purpose | 4/18/07 | 12/28/07 [Insert page number where the document begins]
5-140-3020 | Definitions | 4/18/07 | 12/28/07 [Insert page number where the document begins] | Except for definition of “Nonattainment condition”
5-140-3030 | Measurements, abbreviations, and acronyms | 4/18/07 | 12/28/07 [Insert page number where the document begins]
5-140-3040 | Applicability | 4/18/07 | 12/28/07 [Insert page number where the document begins]
5-140-3050 | Retired Unit Exemption | 4/18/07 | 12/28/07 [Insert page number where the document begins]
5-140-3060 | Standard requirements | 4/18/07 | 12/28/07 [Insert page number where the document begins]
5-140-3070 | Computation of time | 4/18/07 | 12/28/07 [Insert page number where the document begins]
5-140-3080 | Appeal procedures | 4/18/07 | 12/28/07 [Insert page number where the document begins]
Article 2 CAIR-designated Representative for CAIR SO2 Sources
5-140-3100 | Authorization and responsibilities of CAIR-designated representative | 4/18/07 | 12/28/07 [Insert page number where the document begins]
5-140-3110 | Alternate CAIR-designated representative | 4/18/07 | 12/28/07 [Insert page number where the document begins]
5-140-3120 | Changing CAIR-designated representative and alternate CAIR-designated representative; changes in owners and operators | 4/18/07 | 12/28/07 [Insert page number where the document begins]
5-140-3130 | Certificate of representation | 4/18/07 | 12/28/07 [Insert page number where the document begins]
5-140-3140 | Objections concerning CAIR-designated representative | 4/18/07 | 12/28/07 [Insert page number where the document begins]
5-140-3150 | Delegation by CAIR-designated representative and alternate CAIR-designated representative | 4/18/07 | 12/28/07 [Insert page number where the document begins]
Article 3 Permits
5-140-3200 | General CAIR SO2 Trading Program permit requirements | 4/18/07 | 12/28/07 [Insert page number where the document begins]
5-140-3210 | Submission of CAIR permit applications | 4/18/07 | 12/28/07 [Insert page number where the document begins]
5-140-3220 | Information requirements for CAIR permit applications | 4/18/07 | 12/28/07 [Insert page number where the document begins]
5-140-3230 | CAIR permit contents and term | 4/18/07 | 12/28/07 [Insert page number where the document begins]
5-140-3240 | CAIR permit revisions | 4/18/07 | 12/28/07 [Insert page number where the document begins]
Article 5 CAIR SO2 Allowance Allocations
5-140-3400 | State trading budgets | 4/18/07 | 12/28/07 [Insert page number where the document begins]
5-140-3410 | Timing requirements for CAIR SO2 allowance allocations | 4/18/07 | 12/28/07 [Insert page number where the document begins]
5-140-3420 | CAIR SO2 allowance allocations | 4/18/07 | 12/28/07 [Insert page number where the document begins]
Article 6 CAIR SO2 Allowance Tracking System
5-140-3510 | Establishment of accounts | 4/18/07 | 12/28/07 [Insert page number where the document begins]
5-140-3520 | Responsibilities of CAIR-authorized account representative | 4/18/07 | 12/28/07 [Insert page number where the document begins]
5-140-3530 | Recordation of CAIR SO2 allowances | 4/18/07 | 12/28/07 [Insert page number where the document begins]
5-140-3540 | Compliance with CAIR SO2 emissions limitation | 4/18/07 | 12/28/07 [Insert page number where the document begins]
5-140-3550 | Banking | 4/18/07 | 12/28/07 [Insert page number where the document begins]
5-140-3560 | Account error | 4/18/07 | 12/28/07 [Insert page number where the document begins]
5-140-3570 | Closing of general accounts | 4/18/07 | 12/28/07 [Insert page number where the document begins]
Article 7 CAIR SO2 Allowance Transfers
5-140-3600 | Submission of CAIR SO2 allowance transfers | 4/18/07 | 12/28/07 [Insert page number where the document begins]
5-140-3610 | EPA recordation | 4/18/07 | 12/28/07 [Insert page number where the document begins]
5-140-3620 | Notification | 4/18/07 | 12/28/07 [Insert page number where the document begins]
Article 8 Monitoring and Reporting
5-140-3700 | General requirements | 4/18/07 | 12/28/07 [Insert page number where the document begins]
5-140-3710 | Initial certification and recertification procedures | 4/18/07 | 12/28/07 [Insert page number where the document begins]
5-140-3720 | Out of control periods | 4/18/07 | 12/28/07 [Insert page number where the document begins]
5-140-3730 | Notifications | 4/18/07 | 12/28/07 [Insert page number where the document begins]
5-140-3740 | Recordkeeping and reporting | 4/18/07 | 12/28/07 [Insert page number where the document begins]
5-140-3750 | Petitions | 4/18/07 | 12/28/07 [Insert page number where the document begins]
Article 9 CAIR SO2 Opt-in Units
5-140-3800 | Applicability | 4/18/07 | 12/28/07 [Insert page number where the document begins]
5-140-3810 | General | 4/18/07 | 12/28/07 [Insert page number where the document begins]
5-140-3820 | CAIR-designated representative | 4/18/07 | 12/28/07 [Insert page number where the document begins]
5-140-3830 | Applying for CAIR opt-in permit | 4/18/07 | 12/28/07 [Insert page number where the document begins]
5-140-3840 | Opt-in process | 4/18/07 | 12/28/07 [Insert page number where the document begins]
5-140-3850 | CAIR opt-in permit contents | 4/18/07 | 12/28/07 [Insert page number where the document begins]
5-140-3860 | Withdrawal from CAIR SO2 Trading Program | 4/18/07 | 12/28/07 [Insert page number where the document begins]
5-140-3870 | Change in regulatory status | 4/18/07 | 12/28/07 [Insert page number where the document begins]
5-140-3880 | CAIR SO2 allowance allocations to CAIR SO2 opt-in units | 4/18/07 | 12/28/07 [Insert page number where the document begins]
* * * * * * *

* * * * *

[FR Doc. E7-24950 Filed 12-27-07; 8:45 am]

BILLING CODE 6560-50-P